DEPARTMENT OF ENERGY

Federal Energy Regulatory Commission

[Docket Nos. CP01-76-007 and CP01-77-007]

Dominion Cove Point LNG, LP.; Notice of Tariff Filing

August 25, 2003.

Take notice that on August 19, 2003, Dominion Cove Point LNG, LP (Cove Point) tendered for filing as part of its FERC Gas Tariff, Original Volume No. 1, the following tariff sheets, with an effective date of August 18, 2003:

Third Revised Sheet No. 5.

Third Revised Sheet No. 6.

Third Revised Sheet No. 7.

Third Revised Sheet No. 10.

Third Revised Sheet No. 11.

On May 20, 2003, Cove Point filed revised tariff sheets (Second Revised Sheet Nos. 5, 6, 7, 10, and 11) to reflect the correct rates to be effective until the Commission authorized commencement of commercial operations at Cove Point's LNG import terminal. The tariff sheets superseded at that time, which had been approved in a letter order issued February 28, 2003, in Docket No. CP01-76-003, et al., implemented the rates and fuel retention to become applicable upon reactivation. In a letter order issued on June 18, 2003 in Docket Nos. CP01-76-005 and CP01-77-005, the Commission approved the correct rates to be effective June 1, 2003.

In its May 20 filing, Cove Point indicated that, as soon as the Commission approved a date for placing the import facilities in service, it would immediately file to reinstate the postreactivation rate and fuel sheets to be effective on that date. The Commission authorized the commencement of commercial operations of the import facilities in a letter order issued on August 18, 2003. To coincide with the reactivation, Cove Point respectfully requests that the Commission approve the filed tariff sheets with an August 18, 2003 effective date.

Any person desiring to protest said filing should file a protest with the Federal Energy Regulatory Commission, 888 First Street, NE., Washington, DC 20426, in accordance with

§ 385.211 of the Commission's Rules and Regulations. All such protests must be filed in accordance with

§ 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: September 2, 2003.

Linda Mitry,
Acting Secretary.

[FR Doc. 03-22214 Filed 8-29-03; 8:45 am]

BILLING CODE 6717-01-P